DEPARTMENT OF THE INTERIOR

National Park Service

[DOI-2023-0002; PPWOCOMP1A/PPMPSAS1Y.YF0000]

Privacy Act of 1974; System of Records

AGENCY: National Park Service, Interior.

ACTION: Rescindment of a system of records notice.

SUMMARY: The Department of the Interior (DOI) is issuing a public notice of its intent to rescind the National Park Service (NPS) Privacy Act system of records, INTERIOR/NPS-4, Travel Records, from its existing inventory.

DATES: These changes take effect on March 15, 2023.

ADDRESSES: You may send comments identified by docket number [DOI-2023-0002] by any of the following methods:

• Federal eRulemaking Portal: https://www.regulations.gov. Follow the instructions for sending comments.

• Email: DOI_Privacy@ios.doi.gov. Include docket number [DOI-2023-0002] in the subject line of the message.

• U.S. mail or hand-delivery: Teri Barnett, Departmental Privacy Officer, U.S. Department of the Interior, 1849 C Street NW, Room 7112, Washington, DC 20240.

Instructions: All submissions received must include the agency name and docket number [DOI-2023-0002]. All comments received will be posted without change to https://www.regulations.gov, including any personal information provided.

Docket: For access to the docket to read background documents or comments received, go to https://www.regulations.gov.

You should be aware your entire comment including your personally identifiable information, such as your address, phone number, email address, or any other personal information in your comment, may be made publicly available at any time. While you may request to withhold your personally identifiable information from public review, we cannot guarantee we will be able to do so.

FOR FURTHER INFORMATION CONTACT: (1) Jennifer Greatorex, NPS Accounting Operations Center (AOC) Center Manager, National Park Service, 13461 Sunrise Valley Drive, Herndon, VA 20171, jennifer_greatorex@nps.gov or 703-480-1737, or (2) Felix Uribe, Associate Privacy Officer, National Park Service, 12201 Sunrise Valley Drive, Reston, VA 20192, nps_privacy@nps.gov or 202-354-6925.

SUPPLEMENTARY INFORMATION: Pursuant to the provisions of the Privacy Act of 1974, as amended, 5 U.S.C. 552a, the NPS is rescinding the INTERIOR/NPS-4, Travel Records, system of records notice (SORN) and removing it from its system of records inventory. This system was used to manage NPS travel advances, authorizations, and vouchers in accordance with Federal Travel Regulations. During a routine review, DOI determined that agency travel records are covered by two government-wide General Services Administration (GSA) SORNs, GSA/GOVT-3, Travel Charge Card Program, 78 FR 20108 (April 3, 2013); and GSA/GOVT-4, Contracted Travel Services Program, 74 FR 26700 (June 3, 2009), modification published at 74 FR 28048 (June 12, 2009). A government-wide system of records is a system of records where one agency has regulatory authority over the records in the custody of multiple agencies and that agency has the responsibility for publishing a SORN that applies to all the records regardless of their custodial location. The two GSA government-wide SORNs apply to the travel records maintained by DOI pursuant to Federal Travel Regulations and policy. Therefore, DOI is rescinding the INTERIOR/NPS-4, Travel Records, SORN to eliminate an unnecessary duplicate notice in accordance with the Office of Management and Budget Circular A-108, Federal Agency Responsibilities for Review, Reporting, and Publication under the Privacy Act.

Rescinding the INTERIOR/NPS-4, Travel Records, SORN will have no adverse impacts on individuals as the records are covered under the GSA/GOVT-3, Travel Charge Card Program, and GSA/GOVT-4, Contracted Travel Services Program, SORNs, which apply to the records regardless of their custodial location. This rescindment will also promote the overall streamlining and management of DOI Privacy Act systems of records.

SYSTEM NAME AND NUMBER:

INTERIOR/NPS-4, Travel Records.

HISTORY:

48 FR 51698 (November 10, 1983); modification published at 53 FR 51324 (December 21, 1988) and 73 FR 63992 (October 28, 2008).

Teri Barnett,
Departmental Privacy Officer, Department of the Interior.

[FR Doc. 2023-05215 Filed 3-14-23; 8:45 am]

BILLING CODE 4312-52-P